ENVIRONMENTAL PROTECTION AGENCY

[EPA-HQ-SFUND-2010-0763; FRL-9935-84-OSWER]

Proposed Information Collection Request; Comment Request; Hazardous Chemical Reporting: The Emergency and Hazardous Chemical Inventory Forms (Tier I and Tier II)

AGENCY: Environmental Protection Agency (EPA).

ACTION: Notice.

SUMMARY: The Environmental Protection Agency (EPA) is planning to submit an information collection request (ICR), “Hazardous Chemical Reporting: The Emergency and Hazardous Chemical Inventory Forms (Tier I and Tier II)” (EPA ICR No. 2436.03, OMB Control No. 2050-0206) to the Office of Management and Budget (OMB) for review and approval in accordance with the Paperwork Reduction Act. Before doing so, EPA is soliciting public comments on specific aspects of the proposed information collection as described below. This is a proposed extension of the ICR, which is currently approved through March 31, 2016. An Agency may not conduct or sponsor and a person is not required to respond to a collection of information unless it displays a currently valid OMB control number.

DATES: Comments must be submitted on or before December 15, 2015.

ADDRESSES: Submit your comments, referencing Docket ID No. EPA-HQ-SFUND-2010-0763 referencing the Docket ID numbers provided for each item in the text, online using www.regulations.gov (our preferred method), by email to or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, Mail Code 5104A, Environmental Protection Agency, 1200 Pennsylvania Ave. NW., Washington, DC 20460; telephone number: (202) 564-8019; fax number: (202) 564-2620; email address: jacob.sicy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Sections 311 and 312 of the Emergency Planning and Community Right-to-Know Act (EPCRA) apply to the owner or operator of any facility that is required to prepare or have available a Material Safety Data Sheet (MSDS) for a hazardous chemical under the Occupational Safety and Health Act of 1970 and its implementing regulations. Under section 311 of EPCRA, these facilities are required to submit MSDS to the State Emergency Response Commission (SERC), the Local Emergency Planning Committee (LEPC), and the local fire department for each hazardous chemical stored on-site in a quantity greater than the reporting threshold. Alternatively, a list of subject chemicals, grouped by hazard type, may be submitted. Section 312 of EPCRA requires owners and operators of facilities subject to section 311 to annually report the inventories of those chemicals reported under section 311. The Environmental Protection Agency (EPA) is required to publish two emergency and hazardous chemical inventory forms, known as “Tier I” and “Tier II,” for use by these facilities. These forms were first published in October 1987 and amended in July 1990. On July 13, 2012, EPA further revised these forms to add some new data elements that would be useful for local emergency planners and responders. This is the renewal of the information collection request which was previously approved by OMB in ICR No. 2436.02. In ICR 2436.02, EPA estimated that after the initial reporting of the new data elements, which was reporting year 2013, that it would only take 0.25 hours per facility to review the new data elements and revise if necessary. Most of the new data elements were added to page one of the Tier II form, which include contact information for facility emergency coordinator; Tier II information; whether facility is manned or unmanned; if the facility is subject to EPCRA Section 302 or CAA Section 112(r) (Risk Management Program) etc. EPA do not expect these data to change annually. However, we estimated that minimal burden may be incurred for reviewing these data annually and revising the information as necessary.

Form Numbers: 8700-30, Emergency and Hazardous Chemical Inventory Form.

Respondents/Affected Entities: Facilities that are required to prepare or have available a Material Safety Data Sheet (MSDS) for any hazardous chemicals present at the facility above the reporting thresholds specified in the regulations at 40 CFR part 370. These facilities are required to submit a hazardous chemical inventory form, to the SERC, LEPC and the local fire department with jurisdiction over the facility, by March 1 annually.

Respondent's Obligation to Respond: Mandatory under Section 312 of EPCRA.

Estimated Number of Respondents: Approximately 390,000 facility respondents (120,000 manufacturers and 270,000 non-manufacturers) and 3,052 SERCs and LEPCs (total).

Frequency of Response: Annually.

Total Estimated Burden: 97,500 hours (per year). Burden is defined at 5 CFR 1320.03(b)

Total Estimated Cost: $5,675,675 per year. There are no annualized capital or operation & maintenance costs expected during this ICR period.

Changes in Estimates: There is a decrease of 195,000 hours in the total estimated facility respondent burden compared with the ICR currently approved by OMB. This decrease is due to facility incurring minor burden for reviewing and updating previously reported data mainly on page one of the Tier II inventory form.

Dated: September 16, 2015.
Reggie Cheatham,
Director, Office of Emergency Management.

[FR Doc. 2015-26406 Filed 10-15-15; 8:45 am]

BILLING CODE 6560-50-P